DEPARTMENT OF ENERGY

Agency Information Collection Extension

AGENCY: Department of Energy.

ACTION: Submission for Office of Management and Budget (OMB) review; comment request.

SUMMARY: The Department of Energy (DOE) has submitted an information collection request to the OMB for extension under the provisions of the Paperwork Reduction Act of 1995. The information collection requests a three-year extension of its collection for Superior Energy Performance 50001 (SEP 50001) Certification and 50001 Ready Recognition, OMB Control Number 1910-5177. The proposed collection will relate to tracking partner participation and calculating the energy efficiency impact of DOE's Superior Energy Performance certification and 50001 Ready recognition programs.

DATES: Comments regarding this collection must be received on or before January 6, 2022. If you anticipate that you will be submitting comments, but find it difficult to do so within the period of time allowed by this notice, please advise the OMB Desk Officer of your intention to make a submission as soon as possible. The Desk Officer may be telephoned at (202) 395-4718.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Ethan Rogers, EE-5A/Forrestal Building, 1000 Independence Avenue SW, Washington, DC 20585, by fax at 202-287-6093, or by email at ethan.rogers@ee.doe.gov.

SUPPLEMENTARY INFORMATION: This information collection request contains:

(1) OMB No.: 1910-5177;

(2) Information Collection Request Title: Superior Energy Performance 50001 (SEP 50001) Certification and 50001 Ready Recognition;

(3) Type of Request: Renewal;

(4) Purpose: This Information Collection Request applies to the Department of Energy (DOE) voluntary ISO 50001 programs for industrial facilities: Superior Energy Performance® (SEP®) and 50001 Ready™ recognition. SEP is an energy efficiency certification and recognition program for commercial, institutional, and industrial facilities demonstrating excellence in energy management as well as continual improvement in energy efficiency through third-party verified energy performance. 50001 Ready recognition is a self-attestation of the implementation of an ISO 50001 energy management system without the need for external audits. Respondents include commercial, institutional, and industrial facilities. For SEP 50001, additional respondents include SEP 50001 Verification Bodies.

(5) Annual Estimated Number of Respondents: 450;

(6) Annual Estimated Number of Total Responses: 450;

(7) Annual Estimated Number of Burden Hours: 450;

(8) Annual Estimated Reporting and Recordkeeping Cost Burden: $31,452.

Statutory Authority: Accelerating Investment in Industrial Energy Efficiency. Executive Order 13624, 77 FR 54779 (Aug. 30, 2012); 42 U.S.C. 16191.

Signing Authority

This document of the Department of Energy was signed on November 24, 2021, by Rebecca Jones-Albertus, Acting Director, Advanced Manufacturing Office, Office of Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 1, 2021.
Treena V. Garrett,
Federal Register Liaison Officer, U.S. Department of Energy.

[FR Doc. 2021-26427 Filed 12-6-21; 8:45 am]

BILLING CODE 6450-01-P